DEPARTMENT OF TRANSPORTATION

Surface Transportation Board

Notice of Public Information Collection Submitted to OMB for Review

AGENCY: Surface Transportation Board, DOT.

ACTION: Extension of a currently approved collection.

SUMMARY: The Surface Transportation Board has submitted to the Office of Management and Budget for review and approval the following proposal for collection of information as required by the Paperwork Reduction Act of 1995, Public Law 104-13 (44 U.S.C. Chapter 35).

Title: Maps To Be Submitted in Abandonment Exemption Proceedings.

OMB Form Number: 2140-0003

No. of Respondents: 84.

Total Burden Hours: 84.

DATES: Persons wishing to comment on this information collection should submit comments by July 31, 2000.

ADDRESSES: Direct all comments to Case Control, Surface Transportation Board, Room 705, 1925 K Street, NW, Washington, DC 20423. When submitting comments refer to the OMB number and title of the information collection.

FOR FURTHER INFORMATION CONTACT: Charles L. Renninger, 202 565-1631. Requests for copies of the information collection may be obtained by contacting Ellen R. Keys (202) 565-1654.

SUPPLEMENTARY INFORMATION: The Surface Transportation Board is, by statute, responsible for the economic regulation of surface transportation carriers operating in interstate and foreign commerce. The ICC Termination Act of 1995, Public Law 104-88, 109 Stat. 803 (1995), which took effect on January 1, 1996 abolished the Interstate Commerce Commission and transferred the responsibility for regulating rail transportation, including the proposed abandonment and discontinuance of rail lines, to the Surface Transportation Board. The Board needs, in each abandonment exemption proceeding, a detailed map of the rail line, depicting its relation to other rail lines, roads, water routes, and population centers. The Board will use this information in processing abandonment exemption proceedings. Review of the map often assists in determining the precise location of the rail line, which helps in determining the scope of the transaction or service, and to some degree the impact of the proposed transaction on shippers or receivers on the line.

Dated: June 22, 2000.
Vernon A. Williams,
Secretary.

[FR Doc. 00-16707 Filed 6-30-00; 8:45 am]

BILLING CODE 4915-00-U